DEPARTMENT OF DEFENSE

Interim Payment Requests

AGENCY: Department of Defense (DoD).

ACTION: Notice of public meeting.

SUMMARY: The Office of the Director of Defense Procurement, in conjunction with the National Contract Management Association, is sponsoring a public meeting to discuss issues and impacts related to a proposed requirement that contractors relate billed costs in interim payment requests under cost-reimbursement contracts to specific contract line items. The Defense Finance and Accounting Service (DFAS) has proposed this requirement as a part of their Concept of Operations for the DoD's new payment systems, the DFAS Corporate Database and the Defense Procurement Payment System. Currently, unless the contract specifies otherwise, contractors need not identify specific contract line items being billed in interim payment requests. Typically, when not identified, DFAS prorates the billed costs against all contract line items.

The Director of Defense Procurement would like to hear the views of interested parties on what they believe to be the key issues and impacts pertaining to this proposed new requirement and any potential alternatives. In particular, we are interested in the views of specialists in the areas of cost accounting, billing, and the supporting computer systems.

DATES: The public meeting will be conducted at the address shown below on February 22, 2001, from 10:00 a.m. to 2:00 p.m., local time.

ADDRESSES: The public meeting will be conducted at the National Contract Management Association, 1912 Woodford Road, Vienna, VA 22182.

FOR FURTHER INFORMATION CONTACT: Bob Bemben, Office of Cost, Pricing, and Finance, by telephone at (703) 693-0196; by FAX at (703) 693-9616; or by e-mail at robert.bemben@osd.mil.

Michele P. Peterson,
Executive Editor, Defense Acquisition Regulations Council.

[FR Doc. 01-2990 Filed 2-5-01; 8:45 am]

BILLING CODE 5000-04-M